NUCLEAR REGULATORY COMMISSION

Draft Report for Comment: Office of Nuclear Reactor Regulation Standard Review Plan, Section 17.5, “Quality Assurance Program Description—Design Certification, Early Site Permit and New License Applicants”

AGENCY: Nuclear Regulatory Commission.

ACTION: Notice of availability and request for comments.

SUMMARY: The U.S. Nuclear Regulatory Commission's (NRC) Office of Nuclear Reactor Regulation (NRR) has issued Section 17.5, Draft Revision 0, “Quality Assurance Program Description—Design Certification, Early Site Permit and New License Applicants,” of NUREG-0800, “Standard Review Plan for the Review of Safety Analysis Reports for Nuclear Power Plants, LWR Edition” for public comment.

DATES: Comments on this draft document must be submitted by April 11, 2006. To ensure efficient and complete comment resolution, comments should include references to the section, page, and line numbers of the document to which the comment applies.

ADDRESSES: NUREG-0800, including Section 17.5, Draft Revision 0, is available for inspection and copying for a fee at the Commission's Public Document Room, NRC's Headquarters Building, 11555 Rockville Pike (First Floor), Rockville, Maryland. The Public Document Room is open from 7:45 a.m. to 4:15 p.m., Monday through Friday, except on Federal holidays. NUREG-0800, including Section 17.5, Draft Revision 0, is also available electronically on the NRC Web site at: http://www.nrc.gov/reading-rm/doc-collections/nuregs/staff/sr0800/, and from the ADAMS Electronic Reading Room on the NRC Web site at: http://www.nrc.gov/reading-rm/adams.html (ADAMS Accession No. ML060180622).

Members of the public are invited and encouraged to submit written comments. Comments may be accompanied by additional relevant information or supporting data. A number of methods may be used to submit comments. Written comments should be mailed to Chief, Rules Review and Directives Branch, U.S. Nuclear Regulatory Commission, Mail Stop T6-D59, Washington, DC 20555-0001. Hand-deliver comments to: 11555 Rockville Pike, Rockville, MD, between 7:30 a.m. and 4:15 p.m., Federal workdays. Comments may be submitted electronically to: nrcrep@nrc.gov. Comments also may be submitted electronically through the comment form available on the NRC Web site at: http://www.nrc.gov/reading-rm/doc-collections/nuregs/staff/sr0800/.

Please specify the report number NUREG-0800, Section 17.5, Draft Revision 0, in your comments, and send your comments by April 11, 2006.

FOR FURTHER INFORMATION CONTACT: Stephen Tingen, Mail Stop O-6F2, U.S. Nuclear Regulatory Commission, Washington, DC 20555-0001. Telephone: (301) 415-1280; Internet: sgt@nrc.gov.

SUPPLEMENTARY INFORMATION: This new Standard Review Plan (SRP) section is guidance to the staff reviewers in the Office of NRR for performing safety reviews of quality assurance (QA) programs for design certification, early site permit (ESP) and combined license applications submitted under 10 CFR Part 52, as well as new construction permit and operating license applications submitted under 10 CFR Part 50. The principal purpose of the SRP is to ensure the quality and uniformity of staff safety reviews. It is also the intent of this plan to make information about regulatory matters widely available and to improve communication between the NRC, interested members of the public, and the nuclear power industry, thereby increasing understanding of the review process.

SRP Section 17.5 is based on a combination of the following NRC endorsed guidance: ASME Standard NQA-1, “Quality Assurance Program for Nuclear Facilities” (1994 Edition); Regulatory Guide (RG) 1.8, “Qualification and Training of Personnel for Nuclear Power Plants,” Revision 3; RG 1.28, “Quality Assurance Program Requirements (Design and Construction),” Revision 3; RG 1.33, “Quality Assurance Program Requirements (Operation),” Revision 2; Review Standard 002, “Processing Applications for Early Site Permits,” Revision 0; Nuclear Information and Records Management Association, Inc. (NIRMA) Technical Guide (TG) 11-1998, “Authentication of Records and Media;” NIRMA TG 15-1998, “Management of Electronic Records;” NIRMA TG 16-1998, “Software Configuration Management and Quality Assurance;” NIRMA TG 21-1998, Electronic Records Protection and Restoration;” Electric Power Research Institute NP-5652, “Guideline for the Utilization of Commercial—Grade Items in Nuclear Safety-Related Applications (NCIG-07);” SRP Section 17.1, “Quality Assurance During the Design and Construction Phases,” Draft Revision 3; SRP Section 17.2, “Quality Assurance During the Operations Phase,” Draft Revision 3; and SRP Section 17.3, “Quality Assurance Program,” Draft Revision 1. The provisions in 10 CFR 50.69, “Risk-Informed Categorization of Structures, Systems and Components of Nuclear Power Reactors,” regarding QA controls for nonsafety-related systems, structures, and components that perform safety significant functions are included in SRP Section 17.5. The provisions in 10 CFR Part 21 and 10 CFR 50.55(e) regarding reporting of defects and noncompliance are included in SRP Section 17.5. A number of NRC approved changes to QA programs that were originally based on existing SRP Sections 17.1, 17.2, and 17.3 that are considered by the NRC to be generic in nature are also included in SRP Section 17.5. The independent review criteria in existing SRP Section 13.4, “Operational Review,” have been relocated to SRP Section 17.5.

SRP Section 17.5 is to be used by the staff for guidance for the review of new QA programs. SRP Section 17.5 does not replace existing SRP Sections 13.4, 17.1, 17.2 and 17.3. These existing SRPs continue to be applicable to QA programs as previously approved by the NRC.

Dated at Rockville, MD, this 1st day of February, 2006.
For the Nuclear Regulatory Commission.
Dale F. Thatcher,
Chief, Quality & Vendor Branch A, Division of Engineering, Office of Nuclear Reactor Regulation.

[FR Doc. E6-1924 Filed 2-9-06; 8:45 am]

BILLING CODE 7590-01-P